ENVIRONMENTAL PROTECTION AGENCY

[EPA-HQ-OPP-2007-0671; FRL-8153-9]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period July 1, 2007 to September 30, 2007 to control unforeseen pest outbreaks.

FOR FURTHER INFORMATION CONTACT: See each emergency exemption or denial for the name of a contact person. The following information applies to all contact persons: Team Leader, Emergency Response Team, Registration Division (7505P), Office of Pesticide Programs, Environmental Protection Agency, 1200 Pennsylvania Ave., NW., Washington, DC 20460-0001; telephone number: (703) 308-9366.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions discussed above. If you have any questions regarding the applicability of this action to a particular entity, consult the person listed under FOR FURTHER INFORMATION CONTACT.

B. How Can I Get Copies of this Document and Other Related Information?

1. Docket. EPA has established a docket for this action under docket identification (ID) number EPA-HQ-OPP-2007-0671. Publicly available docket materials are available either electronically at http://www.regulations.gov, or, if only available in hard copy, at the OPP Regulatory Public Docket in Rm. S-4400, One Potomac Yard (South Bldg.), 2777 S. Crystal Dr., Arlington, VA. The hours of operation of this Docket Facility is open from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

EPA has granted or denied emergency exemptions to the following State and Federal agencies. The emergency exemptions may take the following form: Crisis, public health, quarantine, or specific. EPA has also listed denied emergency exemption requests in this notice.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U.S. States and Territories

Arkansas

Arkansas State Plant Board

Crisis: On September 24, 2007, for the use of profenofos on rice grown in greenhouses for research only (non-food) to control rice panicle mite (Steneotarsonemus Spinki Smiley). This program ended on October 9, 2007. Contact: Libby Pemberton.

California

Environmental Protection Agency, Department of Pesticide Regulation

Specific Exemption: EPA authorized the use of myclobutanil on artichokes to control powdery mildew; August 18, 2007 to May 31, 2008. Contact: Stacey Groce.

Public Health Exemption: EPA authorized the use of d-Phenothrin and piperonyl butoxide in the air column over agricultural lands to control mosquito vectors of Eastern Equine Encephalitis virus and West Nile Virus at risk for mosquito-borne disease transmission; August 3, 2007 to November 1, 2007. Contact: Princess Campbell.

Connecticut

Department of Environmental Conservation

Crisis: On September 19, 2007, for the use of sodium hypochlorite in contaminated buildings to control anthrax. This program ended on October 3, 2007. Contact: Princess Campbell.

Florida

Department of Agriculture and Consumer Services

Specific Exemption:EPA authorized the use of thiophanate-methyl on cotton to control fusarium hardlock; July 21, 2007 to July 21, 2008. Contact: Stacey Groce.

Georgia

Department of Agriculture

Quarantine: EPA authorized the use of metconazole on soybeans to control Australasian soybean rust (Phakopsora pachyrhizi); July 10, 2007, to April 19, 2007. Contact: Stacey Groce.

EPA authorized the use of flusilazole on soybeans to control Australasian soybean rust (Phakopsora pachyrhizi); July 6, 2007, to June 15, 2010. Contact: Andrea Conrath.

EPA authorized the use of cyproconazole on soybeans to control Australasian soybean rust (Phakopsora pachyrhizi); July 11, 2007, to March 31, 2009. Contact: Stacey Groce.

Illinois

Department of Agriculture

Specific Exemption:EPA authorized the use of fenpyroximate in beehives to control varroa mites; July 3, 2007 to February 28, 2008. Contact: Stacey Groce.

Louisiana

Department of Agriculture and Forestry

Specific Exemption:EPA authorized the use of sulfosulfuron on bermudagrass and bahiagrass pastures and hayfields to control Johnsongrass (Sorghum halepense); July 30, 2007 to September 15, 2007. Contact: Libby Pemberton.

Massachusetts

Department of Agricultural Resources

Public Health Exemption: EPA authorized the use of d-Phenothrin and piperonyl butoxide in the air column over agricultural lands to control mosquito vectors of Eastern Equine Encephalitis virus and West Nile Virus and risk for mosquito-borne disease transmission; August 3, 2007 to November 1, 2007. Contact: Princess Campbell.

Minnesota

Department of Agriculture

Specific Exemption:EPA authorized the use of azoxystrobin on wild rice to control stem rot (Nakataea sigmoidea/Sclerotium oryzae); July 2, 2007 to August 31, 2007. Contact: Libby Pemberton.

Nebraska

Department of Agriculture

Specific Exemption:EPA authorized the use of tebuconazole on field corn seed to control head smut; September 12, 2007 to May 30, 2008. Contact: Andrew Ertman.

New Mexico

Department of Agriculture

Crisis: On July 5, 2007, for the use of azoxystrobin on cotton to control southwestern cotton rust. This program ended on July 17, 2007. Contact: Libby Pemberton.

Rhode Island

Division of Agricultural Resources

Public Health Exemption: EPA authorized the use of d-Phenothrin and piperonyl butoxide in the air column over agricultural lands to control mosquito vectors of Eastern Equine Encephalitis Virus and West Nile Virus and risk for mosquito-borne disease transmission; August 3, 2007 to November 1, 2007. Contact: Princess Campbell.

South Carolina

Clemson University

Quarantine: EPA authorized the use of metconazole on soybeans to control Australasian soybean rust (Phakopsora pachyrhizi); July 10, 2007, to April 19, 2007. Contact: Stacey Groce.

EPA authorized the use of flusilazole on soybeans to control Australasian soybean rust (Phakopsora pachyrhizi); July 6, 2007, to June 15, 2010. Contact: Andrea Conrath.

EPA authorized the use of cyproconazole on soybeans to control Australasian soybean rust (Phakopsora pachyrhizi); July 11, 2007, to March 31, 2009. Contact: Stacey Groce.

Tennessee

Department of Agriculture

Specific Exemption:EPA authorized the use of fenpyroximate in beehives to control varroa mites; July 19, 2007 to February 28, 2008. Contact: Stacey Groce.

Texas

Department of Agriculture

Crisis: On July 2, 2007, for the use of azoxystrobin on cotton to control southwestern cotton rust. This program ended on July 17, 2007. Contact: Libby Pemberton.

Crisis: On July 24, 2007, for the use of profenofos on rice grown for research only to control rice panicle mite (Steneotarsonemus Spinki Smiley). This program ended on August 7, 2007. Contact: Libby Pemberton.

USDA/APHIS

Quarantine: EPA authorized the use of E-11-tetradecen-1-yl acetate and z-11-tetradecen-1-yl acetate on all agricultural crops, all orchards, all nurseries, all parks and forests, all residential and municipal areas, all recreational and non-crop areas to control the light brown apple moth; July 24, 2007, to July 24, 2010. Contact: Andrew Ertman.

Quarantine: EPA authorized the use of E-11-tetradecen-1-yl acetate on all agricultural crops, all orchards, all nurseries, all parks and forests, all residential and municipal areas, all recreational and non-crop areas to control the light brown apple moth in California; July 24, 2007, to June 12, 2010. Contact: Andrew Ertman.

West Virginia

Department of Agriculture

Quarantine: EPA authorized the use of metconazole on soybeans to control Australasian soybean rust (Phakopsora pachyrhizi); August 15, 2007, to April 19, 2007. Contact: Stacey Groce.

List of Subjects

Environmental protection, Pesticides and pests.

Dated: November 14, 2007.
Donald R. Stubbs,
Acting Director, Registration Division, Office of Pesticide Programs.

[FR Doc. E7-23092 Filed 11-27-07; 8:45 am]

BILLING CODE 6560-50-S